DEPARTMENT OF THE INTERIOR

Fish and Wildlife Service

50 CFR Part 17

Endangered and Threatened Wildlife and Plants; Notice of Availability of Genetics Data and Extension of Comment Period for the Proposed Delisting of the Preble's Meadow Jumping Mouse (Zapus hudsonius preblei)

AGENCY: Fish and Wildlife Service, Interior.

ACTION: Notice of availability; extension of comment period.

SUMMARY: We, the U.S. Fish and Wildlife Service (Service), announce the availability of two recently published reports and the underlying data which present additional analysis data regarding the Preble's meadow jumping mouse (Zapus hudsonius preblei). In order to ensure the public has full access to and an opportunity to comment on all available information on the proposed rule to delist the Preble's meadow jumping mouse, we are extending the public comment period until May 18, 2006. Comments previously submitted need not be resubmitted as they have already been incorporated into the public record and will be fully considered in the final decision and rule.

DATES: The public comment period that was reopened until April 18, 2006 (71 FR 8556) is extended until May 18, 2006. Any comments that are received after the closing date may not be considered in the final decision on the proposal.

ADDRESSES: Documents and data relative to this proposed rule are available at http://mountain-prairie.fws.gov/preble/ or http://mountain-prairie.fws.gov/preble/PEER/PEERindex.htm. If you wish to comment, you may submit your comments and materials concerning the proposal by one of several methods:

1. You may submit written comments to Field Supervisor, Colorado Field Office, Ecological Services, P.O. Box 25486, Denver Federal Center, Denver, Colorado 80225.

2. You may hand deliver comments to our Colorado Field Office at 134 Union Blvd., Suite 670, Lake Plaza North, Lakewood, Colorado 80228, or send via facsimile (fax 303-236-4005).

3. You may send comments via electronic mail (e-mail) to FW6_PMJM@fws.gov. See the Public Comments Solicited section below for file format and other information about electronic filing.

The complete file for the finding and proposed rule is available for inspection, by appointment, during normal business hours, at the above address.

FOR FURTHER INFORMATION CONTACT: Susan Linner, Field Supervisor, at the Colorado Field Office (see ADDRESSES section) or telephone (303) 236-4774. Persons who use a telecommunications device for the deaf (TDD) may call the Federal Information Relay Service (FIRS) at 1-800-877-8339, 24 hours a day, 7 days a week.

SUPPLEMENTARY INFORMATION:

Public Comments Solicited

We intend that any final action resulting from the proposed rule will be as accurate and as effective as possible. Therefore, we solicit comments or suggestions from the public, concerned governmental agencies, the scientific community, industry, or any other interested party concerning the proposed rule in light of the additional information. Generally, we seek information, data, and comments concerning:

(1) The taxonomic status of Z.h. preblei, Z.h. campestris, Z.h. intermedius, and other Z. hudsonius subspecies with a particular focus on Ramey et al. (2003, 2004a, 2004b, 2005), King et al. (2006), and the recently released genetics data;

(2) The taxonomy, biology, ecology, distribution, status, and factors affecting Z.h. preblei, Z.h. campestris, Z.h. intermedius, and other Z. hudsonius subspecies;

(3) Data from any systematic surveys for Z.h. preblei, Z.h. campestris, Z.h. intermedius, and other Z. hudsonius subspecies, as well as any studies that may show population size or trends;

(4) Quantitative information regarding the life history, ecology, and habitat use of Z.h. preblei, Z.h. campestris, Z.h. intermedius, and other Z. hudsonius subspecies, as well as information regarding the applicability of information relevant to other subspecies;

(5) Information on the threats faced by the Z.h. preblei, Z.h. campestris, Z.h. intermedius, and other Z. hudsonius subspecies in relation to the five listing factors (as defined in section 4(a)(1) of the Endangered Species Act, as amended (16 U.S.C. 1531 et seq.));

(6) Information regarding the effects of current land management on population distribution and abundance of Z.h. preblei, Z.h. campestris, Z.h. intermedius, and other Z. hudsonius subspecies; and

(7) Information regarding the possibility of contact and interaction within or between Z.h. preblei, Z.h. campestris, and adjacent subspecies of meadow jumping mouse (i.e., Z.h. intermedius and Z.h. pallidus) or other information relevant to a determination of the taxonomic classification of the species.

You may submit comments as indicated under ADDRESSES. If you wish to submit comments by e-mail, please avoid the use of special characters and any form of encryption. Please also include your name and return address in your e-mail message.

Our practice is to make comments, including names and home addresses of respondents, available for public review during regular business hours. Due to the high level of interest in this rulemaking process, we also may post comments on our Web site. Individual respondents may request that we withhold their home address from the rulemaking record, which we will honor to the extent allowable by law. There also may be circumstances in which we would withhold from the rulemaking record a respondent's identity, as allowable by law. If you wish us to withhold your name or address, you must state this prominently at the beginning of your comment. However, we will not consider anonymous comments. We will make all submissions from organizations or businesses, and from individuals identifying themselves as representatives or officials of organizations or businesses, available for public inspection in their entirety. Comments and other information received, as well as supporting information used to write the proposed rule, will be available for public inspection, by appointment, during normal business hours at the Colorado Field Office (see ADDRESSES section). In making a final decision on the proposal, we will take into consideration the comments and any additional information we receive. Such communications may lead to a final regulation that differs from the proposal.

Background

The Preble's meadow jumping mouse (Zapus hudsonius preblei) was listed as a threatened species on May 13, 1998 (63 FR 26517). At the time of listing, we recognized Krutzsch (1954) as the “most recent revision of Z. hudsonius” and “the authority for (the ‘subspecies’) taxonomy” (63 FR 26517, May 13, 1998). In our February 2, 2005, Federal Register document (70 FR 5404), we determined that Ramey et al. (2004a) represented the best scientific and commercial information available regarding the taxonomy of Z.h. preblei and Z.h. campestris. Based on the lack of distinct genetic and morphologic differences between the two subspecies presented in Ramey et al. (2004a), we concluded that Z.h. preblei was likely not a valid subspecies and proposed removing the subspecies from the list of threatened and endangered species.

Since then, substantial additional information has become available including two recently available reports: “Comprehensive analysis of molecular phylogeographic structure among meadow jumping mice (Zapus hudsonius) reveals evolutionarily distinct subspecies” (King et al. 2006) and “Genetic relatedness of the Preble's meadow jumping mouse (Zapus hudsonius preblei) to nearby subspecies of Z. hudsonius as inferred from variation in cranial morphology, mitochondrial DNA, and microsatellite DNA: Implications for taxonomy and conservation” (Ramey et al. 2005). The Service intends to fully consider all of the available information in any delisting decision based on taxonomy.

In order to ensure all relevant information is considered, we have recently made available on our Web site (http://mountain-prairie.fws.gov/preble/PEER/PEERindex.htm) all of the morphological, mtDNA and microsatellite nuclear DNA data from Ramey et al. (2005) and King et al. (2006). We are extending the public comment period on the delisting proposal to allow the public to consider and comment on the above data.

Authority

The authority for this action is the Endangered Species Act of 1973 (16 U.S.C. 1531 et seq.).

Dated: March 20, 2006.
H. Dale Hall,
Director, U.S. Fish and Wildlife Service.

[FR Doc. E6-4572 Filed 3-29-06; 8:45 am]

BILLING CODE 4310-55-P